DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel. 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Action(s)

On June 12, 2018, OFAC determined that the property and interests in property subject to U.S. jurisdiction of the following persons are blocked under the relevant sanctions authority listed below.

Individuals

1. ROSARIO, Felix Ramon Bautista; DOB 16 Jun 1963; POB S. J. de la Maguana, Dominican Republic; nationality Dominican Republic; Gender Male; Passport SR0007428 (Dominican Republic); alt. Passport SC3002191 (Dominican Republic); National ID No. 00101651586 (Dominican Republic) (individual) [GLOMAG].

Designated pursuant to section 1(a)(ii)(B)(1) of Executive Order 13818 of December 20, 2017, “Blocking the Property of Persons Involved in Serious Human Rights Abuse or Corruption” (E.O. 13818) for being a current or former government official, or a person acting for or on behalf of such an official, who is responsible for or complicit in, or has directly or indirectly engaged in, corruption.

Also designated pursuant to section 1(a)(ii)(B)(2) of E.O. 13818 for being a current or former government official, or a person acting for or on behalf of such an official, who is responsible for or complicit in, or has directly or indirectly engaged in, the transfer or the facilitation of the transfer of the proceeds of corruption.

2. HIENG, Hing Bun (a.k.a. BUNHEANG, Hing; a.k.a. BUNHEUNG, Hing; a.k.a. HEANG, Him Bun; a.k.a. HEANG, Hing Bun), Takhmao, Cambodia; 22, St. 118, Phnom Penh, Cambodia; DOB 01 Jan 1957; POB Cambodia; Gender Male (individual) [GLOMAG].

Designated pursuant to section 1(a)(ii)(C)(1) of E.O. 13818 for being or having been a leader or official of the Prime Minister Bodyguard Unit, an entity that has engaged in, or whose members have engaged in, serious human rights abuse relating to the leader's or official's tenure.

3. CONSTRUCTORA HADOM SA, Av Ortega y Gasset Nro 32, Ensanche Naco, Santo Domingo, D.N., Dominican Republic; Tax ID No. 130773289 (Dominican Republic) [GLOMAG].

Designated pursuant to section 1(a)(iii)(B) of E.O. 13818 for being owned or controlled by, or having acted or purported to act for or on behalf of, directly or indirectly, FELIX RAMON BAUTISTA ROSARIO, a person whose property and interests in property are blocked pursuant to E.O. 13818.

4. CONSTRUCTORA ROFI S A, George Washington, No. 402, Apto. Malecon Center, Ciudad Universitaria, Dominican Republic; Tax ID No. 130098085 (Dominican Republic) [GLOMAG].

Designated pursuant to section 1(a)(iii)(B) of E.O. 13818 for being owned or controlled by, or having acted or purported to act for or on behalf of, directly or indirectly, FELIX RAMON BAUTISTA ROSARIO, a person whose property and interests in property are blocked pursuant to E.O. 13818.

5. INMOBILIARIA ROFI S A, Av. George Washinton #500, Malecon Center Plaza, Su, Gazcue, Dominican Republic; Tax ID No. 101880821 (Dominican Republic) [GLOMAG].

Designated pursuant to section 1(a)(iii)(B) of E.O. 13818 for being owned or controlled by, or having acted or purported to act for or on behalf of, directly or indirectly, FELIX RAMON BAUTISTA ROSARIO, a person whose property and interests in property are blocked pursuant to E.O. 13818.

6. SEYMEH INGENIERIA SRL (a.k.a. SEYMEH ENGINEERING), AV/27 De Febrero, No. 10, Apto. Seymeh, Miraflores, Dominican Republic; Tax ID No. 130870802 (Dominican Republic) [GLOMAG].

Designated pursuant to section 1(a)(iii)(B) of E.O. 13818 for being owned or controlled by, or having acted or purported to act for or on behalf of, directly or indirectly, FELIX RAMON BAUTISTA ROSARIO, a person whose property and interests in property are blocked pursuant to E.O. 13818.

7. SOLUCIONES ELECTRICAS Y MECANICAS HADOM S.R.L. (a.k.a. SEYMEH; a.k.a. SEYMEH S.R.L.), Ave 27 de Febrero #10 entre Maximo Gomez y, Santo Domingo, D.N., Dominican Republic; Tax ID No. 130819084 (Dominican Republic) [GLOMAG].

Designated pursuant to section 1(a)(iii)(B) of E.O. 13818 for being owned or controlled by, or having acted or purported to act for or on behalf of, directly or indirectly, FELIX RAMON BAUTISTA ROSARIO, a person whose property and interests in property are blocked pursuant to E.O. 13818.

Dated: June 12, 2018.
Bradley T. Smith,
Acting Deputy Director, Office of Foreign Assets Control.

[FR Doc. 2018-13548 Filed 6-22-18; 8:45 am]

BILLING CODE 4810-AL-P